DEPARTMENT OF THE INTERIOR

Bureau of Land Management

[CO-200-1430-EU, COC-63798]

Notice of Realty Action

AGENCY: Bureau of Land Management, Interior.

ACTION: Notice of Realty Action, competitive land sale in Colorado.

SUMMARY: The following lands have been found suitable for sale under section 203 of the Federal Land Policy and Management Act of 1976 (90 Stat. 2750, 43 U.S.C. 1713) at not less than the appraised fair market value. The lands will not be offered for sale until at least 60 days after the date of this notice. Bidders are limited to those with adjacent land or legally recorded existing rights. Evidence of such must be presented at the time of the auction. All parcels are located in Teller County, Colorado as described below:

Parcel 1. All public land within the boundaries of the SE¼NE¼, and the SE¼ of Section 7, T. 15 S., R. 69 W., 6th P.M. containing 18 tracts totaling approximately 5.76 acres. A $50 non-refundable filing fee is also required to apply for the mineral estate.

Parcel 2. All public land within the boundaries of the SW¼, and the S½SE½ of Section 8, T. 15 S., R. 69 W., 6th P.M. containing 38 tracts totaling approximately 6.14 acres. A $50 non-refundable filing fee is also required to apply for the mineral estate.

Parcel 3. All public land within the boundaries of the S½SE¼ of Section 13, and the N½N½NE¼, and the N½S½N½NE¼ of Section 24, T. 15 S., R. 70 W., 6th P.M. containing 12 tracts totaling approximately 1.51 acre. A $50 non-refundable filing fee is also required to apply for the mineral estate.

Parcel 4. All public land within the boundaries of Section 21, and the NW¼NW¼ of Section 28, T. 15 S., R. 69 W., 6th P.M. containing 37 parcels totaling approximately 5.45 acres. A $50 non-refundable filing fee is also required to apply for the mineral estate.

Parcel 5. All public land within the boundaries of the S½S½N½NE¼, S½NE¼, NE¼SE¼NW¼, E½SE¼SE¼NW¼, E½NE¼NE¼SW¼, E½NE¼SE¼NE¼SW¼, and the SE¼, Section 24, T. 15 S., R. 70 W., 6th P.M. containing 25 tracts totaling approximately 6.77 acres. The United States will reserve all minerals and the surface will be patented subject to use reasonably incident to exploration and mining so long as the mineral estate is separate from the surface estate and held by the federal government. All bidders are advised that mining claims exist, the title is defeasible, and the claimant(s) may be entitled to a patent for surface and minerals should all requirements of the mining law be met.

Parcel 6. All public land within the boundaries of the E½NE¼, E½NW¼NE¼, NW¼NW¼NE¼, N½SW¼NW¼NE¼, SW¼NE¼, E½NE¼SE¼NW¼, E½SE¼SE¼NW¼, E½NE¼SW¼, S½NW¼NE¼SW¼, SW¼NE¼SW¼, E½SE¼NW¼SW¼, E½NE¼SW¼SW¼, SE¼SW¼SW¼, SE¼SW¼, SE¼ of Section 25, T. 15 S., R. 70 W., 6th P.M. containing 28 tracts totaling approximately 10.42 acres. The United States will reserve all minerals and the surface will be patented subject to use reasonably incident to exploration and mining so long as the mineral estate is separate from the surface estate and held by the federal government. All bidders are advised that mining claims exist, the title is defeasible, and the claimant(s) may be entitled to a patent for surface and minerals should all requirements of the mining law be met.

Parcel 7. Lot 78 Section 6, T. 16 S., R. 69 W., 6th P.M. containing approximately 8.41 acres. A $50 non-refundable filing fee is also required to apply for the mineral estate. In addition to the appraised value minimum bid and any bid addition, successful bidders shall reimburse the BLM for certain processing costs.

Other terms and conditions of the sale are:

1. Patent will be subject to a 60-foot wide right-of-way for all existing State and county roads, if any, as of the date of patent.

2. A right-of-way will be reserved for ditches and canals constructed by the authority of the United States under the Act of August 30, 1890 (26 Stat. 291; 43 U.S.C. 945).

These lands are classified for disposal pursuant to section 7 of the Taylor Grazing Act and were identified for disposal in a land use plan which was in effect on July 25, 2000, and the proceeds from this sale will be deposited in the Federal Land Disposal Account authorized under section 206 of the Federal Land Transaction Facilitation Act, Public Law 106-248. The lands were previously segregated for exchange, which is hereby canceled and are hereby segregated from appropriation under the public land laws, including the mining laws, pending disposition of this action or 270 days from the date of publication of this notice, whichever occurs first.

The parcels will be offered for competitive sale, at 3170 East Main St., Canon City, Colorado not less than 60 days from the date of this publication and bidding will be by oral auction. Sealed bids will be accepted until close of business the day before the auction at the address below. Envelopes should be clearly marked “SEALED BID: COC-63798 May 2, 2002 for PARCEL # as appropriate”. Bid amounts must be stated in the bid and signed. All bids, whether sealed or oral, shall be accompanied by a bid deposit of 30% of the appraised minimum bid and full payment of the mineral fee if necessary and the processing cost amount in the form of separate certified check, postal money order, bank draft, or cashiers check made payable to “USDI, Bureau of Land Management” for each of the appropriate three amounts. Oral bids will be accepted in $100 increments only. Federal law requires that bidders must be U.S. citizens 18 years of age or older, or, in the case of a corporation or association, subject to the laws of any State of the U.S. Proof of citizenship or authorization to bid for a corporation or association shall accompany the bid. The successful high bidder shall be required to submit the full payment of the balance of their bid no later than 90 days after the auction. Failure to submit such payment shall result in forfeiture of the bid deposit and offering to the second highest bidder at their original bid. If no acceptable bid is received the land will be offered by sealed bid on the 1st and 3rd Wednesdays (4 p.m.) of each month at no less than the minimum bid until the offer is canceled.

DATES: Interested parties may submit comments on this action on or before 45 days from the date of this publication. Please reference the applicable serial number in all correspondence. Objections will be reviewed and this realty action may be sustained, vacated, or modified. Unless vacated or modified, this realty action will become final.

ADDRESS FOR COMMENTS: Royal Gorge Field Office Manager, Bureau of Land Management, 3170 E. Main St., Canon City, CO 81212.

FOR FURTHER INFORMATION CONTACT: David Hallock, Realty Specialist BLM, 719-269-8536; Royal Gorge Field Office, 3170 E. Main St., Canon City, CO 81212.

Paul D. Trentzsch,
Acting Field Manager.

[FR Doc. 02-10704 Filed 4-30-02; 8:45 am]

BILLING CODE 4310-JB-P